DEPARTMENT OF EDUCATION

[Docket No.: ED-2014-ICCD-0071]

Agency Information Collection Activities; Comment Request; 2015 National Household Education Survey (NHES 2015) Full Scale Data Collection

AGENCY: Institute of Education Sciences/National Center for Education Statistics (NES), Department of Education (ED).

ACTION: Notice.

SUMMARY: In accordance with the Paperwork Reduction Act of 1995 (44 U.S.C. chapter 3501 et seq.), ED is proposing a revision of an existing information collection.

DATES: Interested persons are invited to submit comments on or before July 7, 2014.

ADDRESSES: Comments submitted in response to this notice should be submitted electronically through the Federal eRulemaking Portal at http://www.regulations.gov by selecting Docket ID number ED-2014-ICCD-0071 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E105, Washington, DC 20202.

FOR FURTHER INFORMATION CONTACT: For specific questions related to collection activities, please contact Kashka Kubdzela, 202-502-7411.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 2015 National Household Education Survey (NHES 2015) Full Scale Data Collection.

OMB Control Number: 1850-0768.

Type of Review: A revision of an existing information collection.

Respondents/Affected Public: Individuals or households.

Total Estimated Number of Annual Responses: 248,420.

Total Estimated Number of Annual Burden Hours: 40,299.

Abstract: The National Household Education Surveys Program (NHES) is conducted by the National Center for Education Statistics (NCES). NHES is NCESs principal mechanism for addressing education topics appropriate for households rather than establishments. Such topics cover a wide range of issues, including early childhood care and education, childrens readiness for school, parent perceptions of school safety and discipline, before- and after-school activities of school-age children, participation in adult education and training, parent involvement in education, school choice, homeschooling, and civic involvement. The NHES consists of a series of rotating surveys using a two-stage design in which a household screener collects household membership and key characteristics for sampling and then appropriate topical survey(s) are mailed to sample members. Data from the NHES are used to provide national cross-sectional estimates on populations of special interest to education researchers and policymakers. For surveys about children, the population of interest is defined by age or grade in school, or both, depending on the particular survey topic and research questions. For surveys of adults, the population of interest is those aged 16 to 65 who are not enrolled in grade 12 or below, excluding those on active duty military service and those who are institutionalized. The NHES targets these populations using specific screening and sampling procedures. The NHES design also yields estimates for subgroups of interest for each child and adult survey. In addition to providing cross-sectional estimates, the NHES is designed to produce estimates from repeated cross sections to measure changes in key statistics. NHES surveys were conducted approximately every other year from 1991 through 2007 using random digit dial (RDD) methodology; beginning in 2012 NHES began collecting data by mail to improve response rates. This submission seeks clearance to repeat the child topical surveys conducted in 2012, Parent and Family Involvement in Education (PFI) and Early Childhood Program Participation (ECPP), to begin to measure changes over time with the new methodology. It also seeks clearance to conduct the first adult topical survey in NHES since 2005, the Credentials for Work Survey (CWS), and to pilot an adult topical survey for NHES:2017, the Training for Work Survey (TWS). The adult surveys were developed in conjunction with the Interagency Working Group on Expanded Measures of Enrollment and Attainment (GEMEnA) and the CWS was pilot tested in the 2014 NHES Feasibility Study. Data collection approaches that were most successful at balancing the need to limit overall bias, respondent burden, and cost in the Feasibility Study will be used for the 2015 data collection.

Dated: May 2, 2014
Stephanie Valentine,
Acting Director, Information Collection Clearance Division, Privacy, Information and Records Management Services, Office of Management.

[FR Doc. 2014-10440 Filed 5-6-14; 8:45 am]

BILLING CODE 4000-01-P